DEPARTMENT OF HEALTH AND HUMAN SERVICES

National Institutes of Health

Center for Scientific Review; Amended Notice of Meeting

Notice is hereby given of a change in the meeting of the Center for Scientific Review Special Emphasis Panel, August 14, 2025, 10:00 a.m. to August 14, 2025, 05:00 p.m., National Institutes of Health, Rockledge II, 6701 Rockledge Drive, Bethesda, MD 20892 which was published in the Federal Register on July 17, 2025, 90 FR 33391 Doc No. 2025-13353.

This meeting is being amended to change the contact person from Dr. Beverly W. Duncan to Dr. Jennifer Villa, Scientific Review Officer, National Institutes of Health, 6701 Rockledge Drive, Bethesda, MD 20892, (301)-496-5436, jennifer.villa@nih.gov. The meeting is closed to the public.

Dated: August 1, 2025.
Sterlyn H. Gibson,
Program Specialist, Office of Federal Advisory Committee Policy.

[FR Doc. 2025-14952 Filed 8-6-25; 8:45 am]

BILLING CODE 4140-01-P